DEPARTMENT OF TRANSPORTATION

[Docket No. DOT-OST-2008-0259]

Agency Requests for Renewal of a Previously Approved Information Collection(s): Exemption From Passenger Tariff-Filing Requirements in Certain Instances and Mandatory Electronic Filing of Residual Passenger Tariffs

AGENCY: Office of the Secretary of Transportation (OST), Pricing & Multilateral Affairs Division, DOT.

ACTION: Notice and request for comments.

SUMMARY: The Department of Transportation (DOT), OST, Pricing & Multilateral Affairs Division invites public comments about our intention to request the Office of Management and Budget's (OMB) approval to renew an existing information collection. The collection involves tariff filings containing changes to passenger fares and related rules in a limited number of international markets that have not been exempted from such filing. We anticipate a modest reduction of burden in the future to the DOT and the carriers that file tariffs with DOT. The pre-existing information collection request previously approved by OMB expires on March 31, 2012. We are required to publish this notice in the Federal Register by Paperwork Reduction Act of 1955, Public Law 104-13.

DATES: Written comments should be submitted by April 10, 2012.

ADDRESSES: You may submit comments identified by Docket No. DOT-OST-2008-0259 through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: John Kiser, 202-366-2435 or Bernice C. Gray, 202-366-2418, Office of the Secretary, Pricing and Multilateral Affairs Division, U.S. Department of Transportation, 1200 New Jersey Avenue SE., W86-320 and W86-433, Washington, DC 20590.

SUPPLEMENTARY INFORMATION:

OMB Control Number: 2106-0009.

Title: 14 CFR part 221—Exemption from Passenger Tariff-filing Requirements in Certain Instances and Mandatory Electronic Filing of Residual Passenger Tariffs.

Type of Review: Renewal of a Previously Approved Information Collection.

Background: Section 41504 of Title 49 or the United States Code, requires every U.S. and foreign air carrier to file with the Department and keep open for public inspection, tariffs showing all prices for “foreign air transportation” between points served by the carrier, as well as all the rules relating to that transportation to the extent required by the Department. This requirement includes passenger fares, related charges and governing rules. The detailed tariff-filing rules and authority for approvals, rejections, and waivers are established by 14 CFR part 221. Once tariffs are allowed to become effective by the Department, these tariffs become legally binding terms in the contract of carriage for international air transportation.

In several rulemaking proceedings, the Department determined that the amount of tariff material filed by carriers exceeded our regulatory requirements in certain respects; that alternative methods existed for protecting consumers and other elements of the public interest that are more effective than filed tariffs; and that procedures should be developed to foster the electronic filing and the review of those tariffs, which should continue to be filed. On November 30, 1995, the Department published a final rule (Exemption from Property Tariff-Filing Requirement for 14 CFR parts 221 and 292, Docket No. 49827) exempting carriers from their regulatory duty to file tariffs for foreign air transportation of cargo.

In the final rule (Notice of Exemption from Exemption from Passenger Tariff-Filing Requirements In Certain Instances, Docket OST-97-2050-12), issued July 21, 1999, the Department determined that the filing of certain tariffs with the Department for foreign air transportation passengers is no longer necessary or appropriate, and accordingly granted another exemption from the tariff-filing requirement set forth in Part 221. The rule also required that all remaining tariffs be filed electronically. A substantial number of provisions in Part 221 were removed, where redundant or out-dated, given present regulatory practices.

On October 7, 1999, the Assistant Secretary issued a notice under 14 CFR part 293, Notice of Exemption from the Department's Tariff-Filing Requirement, Docket OST-97-2050-14, specifying the terms of the exemptions for markets in Category A (no fare filing (s), Category B exemptions for markets in Category A (no fare filing (s)), Category B (normal one-way economy fare filing (s) only) or Category C (filing all fares), taking into account specific factors present in each market. The notice also specified which general rules must continue to be filed.

On September 12, 2005, the Assistant Secretary issued a Notice of Exemption from the Department's Tariff-Filing Requirements, Docket OST-97-2050-15, updating the list of countries added to the tariff-filing exemptions under 14 CFR for country-pair markets transferring more countries between categories, and increasing the number of exempted countries between categories, and increasing the number of exempted countries from the tariff-filing requirements.

On April 8, 2008, the Assistant Secretary issued a third notice (Notice of Exemption from the Department's Tariff-Filing Requirements, Docket OST-97-2050-18), updating the list of countries added to the tariff-filing exemptions under 14 CFR part 293 for country-pair markets, transferring more countries between categories and increasing the number of exempted countries from the tariff-filing requirements. Most of the changes in the 2005 and 2008 notices moved countries into Category A (no fare filing (s), reflection the increasing number of “open skies” air services agreements between the United States and its trading partners). The effect on the burden hours cannot be determined at this time for the newest updated list of tariff-filing exemptions. Because of exemptions that have been granted to U.S. and foreign carriers from the statutory and regulatory duty to file international passenger tariffs for many markets, the burden of such filings has been substantially reduced. When the final rule was issued in July 1999, we estimated that total annual burden on respondents at 650,000 hours. In 2007, the Department received 45,840 electronic filings, with an estimated annual burden of 229,200 burden hours. This reflected the fact that fewer markets were subject to filing requirements, but the reduction was tempered somewhat by a higher frequency of filings in markets still subject to filing. Considering these offsetting factors, we anticipate a modest further reduction of burden in the future.

Respondents: The vast majority of the air carriers filing international tariffs are large operators with revenues in excess of several million dollars each year. Small air carriers operating aircraft with 60 seats or less and 18,000 pounds payload or less that offer an-demand air-taxi service are not required to file such tariffs.

Respondents: The vast majority of the air carriers filing international tariffs are large operators with revenues in excess of several million dollars each year. Small air carriers operating aircraft with 60 seats or less and 18,000 pounds payload or less that offer an-demand air-taxi service are not required to file such tariffs.

Frequency: The information will be collected annually.

Number of Respondents: 148.

Number of Responses: 46,000.

Total Annual Burden: 230,000 hours.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. chapter 35, as amended; and 49 CFR 1:48.

Issued in Washington, DC, on February 2, 2012.
John Kiser,
Chief, Pricing & Multilateral Affairs Division, Office of Secretary of Transportation.

[FR Doc. 2012-2818 Filed 2-9-12; 8:45 am]

BILLING CODE 4910-62-P